INTERNATIONAL TRADE COMMISSION

[Investigation Nos. 701-TA-463 and 731-TA-1159 (Review)]

Oil Country Tubular Goods From China

Determinations

On the basis of the record ¹ developed in the subject five-year reviews, the United States International Trade Commission (“Commission”) determines, pursuant to the Tariff Act of 1930, that revocation of the countervailing duty and antidumping duty orders on oil country tubular goods from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on December 1, 2014 (79 FR 71121) and determined on March 6, 2015 that it would conduct expedited reviews (80 FR 17495, April 1, 2015).

The Commission made these determinations pursuant to section 751(c) of the Tariff Act of 1930 (19 U.S.C. 1675(c)). It completed and filed its determinations in these reviews on May 7, 2015. The views of the Commission are contained in USITC Publication 4532 (May 2015), entitled Oil Country Tubular Goods from China: Investigation Nos. 701-TA-463 and 731-TA-1159 (Review).

By order of the Commission.
Issued: May 7, 2015.
Lisa R. Barton,
Secretary to the Commission.

[FR Doc. 2015-11421 Filed 5-11-15; 8:45 am]

BILLING CODE 7020-02-P